DEPARTMENT OF ENERGY

Federal Energy Regulatory Commission

[Docket No. EC03-27-000]

California Independent System Operator Corporation; Notice of Filing

December 4, 2002.

Take notice that on December 2, 2002, California Independent System Operator Corporation (ISO) filed with the Federal Energy Regulatory Commission (Commission) an application pursuant to section 203 of the Federal Power Act for authorization for the transfer of Operational Control of certain transmission assets from the cities of Anaheim, California (Anaheim), Azusa, California (Azusa), Banning, California (Banning), and Riverside, California (Riverside) (collectively Southern Cities) to the ISO, to be effective on January 1, 2003.

The ISO states that this filing has been served on the Public Utilities Commission of the State of California, the California Energy Commission, the California Electricity Oversight Board, and all parties with effective Scheduling Coordinator Agreements under the ISO Tariff, including the Southern Cities.

The ISO is requesting expeditious action by the Commission on this Application so that the transfer of Operational Control discussed herein can be effectuated on January 1, 2003.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: December 20, 2002.

Linwood A. Watson, Jr.,
Deputy Secretary.

[FR Doc. 02-31139 Filed 12-9-02; 8:45 am]

BILLING CODE 6717-01-P